DEPARTMENT OF THE INTERIOR

Bureau of Land Management

[LLAK910000 L13100000.DB0000 LXSINSSI0000]

Notice of Reestablishment of the North Slope Science Initiative Science Technical Advisory Panel

AGENCY: Bureau of Land Management, Interior.

ACTION: Notice.

SUMMARY: This notice is published in accordance with Section 9(a)(2) of the Federal Advisory Committee Act of 1972 (Pub. L. 92-463). Notice is hereby given that the Secretary of the Interior (Secretary) has re-established the Bureau of Land Management's (BLM) North Slope Science Initiative (NSSI) Science Technical Advisory Panel (Panel).

FOR FURTHER INFORMATION CONTACT: Allison Sandoval, BLM Advisory Committee Lead (600), Bureau of Land Management, 1620 L Street, NW., MS-LS-401, Washington, DC 20036, telephone (202) 912-7434.

SUPPLEMENTARY INFORMATION: The purpose of the Panel is to advise the NSSI Executive Director and NSSI Oversight Group on the inventory, monitoring, and research needed on the North Slope of Alaska, including the off-shore environments.

Certification Statement: I hereby certify that the reestablishment of the North Slope Science Initiative Science Technical Advisory Panel is necessary and in the public interest in connection with the Secretary's responsibilities to manage the lands, resources, and facilities administered by the BLM.

Dated: June 28, 2010.
Ken Salazar,
Secretary of the Interior.

[FR Doc. 2010-16985 Filed 7-12-10; 8:45 am]

BILLING CODE 1310-JA-P